DEPARTMENT OF COMMERCE

National Institute of Standards and Technology

National Fire Codes: Request for Comments on NFPA's Codes and Standards

AGENCY: National Institute of Standards and Technology, Commerce.

ACTION: Notice.

SUMMARY: The National Institute of Standards and Technology (NIST) is publishing this notice on behalf of the National Fire Protection Association (NFPA) to announce the availability of and request comments on the First Draft Reports that will be reporting in NFPA's 2014 Annual Revision Cycle.

DATES: Thirty First Draft Reports are published on the NFPA Web site at http://www.nfpa.org/FDRSDR . Comments received by 5:00 p.m. EST/EDST on or before May 3, 2013 will be considered by the respective NFPA Committees before final action is taken on the comments.

ADDRESSES: The 2014 Annual Revision Cycle First Draft Reports are available and downloadable from NFPA's Web site at: http://www.nfpa.org/FDRSDR. Comments on the First Draft Reports can be submitted online by going to the link above.

FOR FURTHER INFORMATION CONTACT: Amy Beasley Cronin, Secretary, Standards Council, NFPA, 1 Batterymarch Park, Quincy, Massachusetts, 02169-7471, (617) 770-3000. David F. Alderman, NIST, 100 Bureau Drive, MS 2100, Gaithersburg, MD 20899, email: david.alderman@nist.gov or by phone at 301-975-4019.

SUPPLEMENTARY INFORMATION: Since 1896, the National Fire Protection Association (NFPA) has accomplished its mission by advocating consensus codes and standards, research, training and education for safety related issues. NFPA's National Fire Codes®, which holds over 295 documents, are administered by more than 240 Technical Committees comprised of approximately 7600 volunteers and are adopted and used throughout the world. NFPA is a nonprofit membership organization with approximately 70,000 members from over 100 nations, all working together to fulfill the Association's mission.

The NFPA process provides ample opportunity for public participation in the development of its codes and standards. All NFPA codes and standards are revised and updated every three to five years in Revision Cycles that begin twice each year and that take approximately two years to complete. Each Revision Cycle proceeds according to a published schedule that includes final dates for all major events in the process. The Code Revision Process contains four basic steps that are followed for developing new documents as well as revising existing documents: Step 1: Public Input Stage, which results in the First Draft Report (formerly ROP); Step 2: Comment Stage, which results in the Second Draft Report (formerly ROC); Step 3: the Association Technical Meeting at the NFPA Conference & Expo; and Step 4: Standards Council consideration and issuance of documents.

Note: Anyone wishing to make Amending Motions on the Second Draft Reports (formerly ROP and ROC) must signal his or her intention by submitting a Notice of Intent to Make a Motion by the Deadline of 5:00 p.m. EST/EDST on or before February 7, 2014. Certified motions will be posted by April 4, 2014. Documents that receive notice of proper Amending Motions (Certified Amending Motions) will be presented for action at the Annual June 2014 Association Technical Meeting. Documents that receive no motions will be forwarded directly to the Standards Council for action on issuance.

For more information on these new rules and for up-to-date information on schedules and deadlines for processing NFPA Documents, check the NFPA Web site at www.nfpa.org, or contact NFPA Codes and Standards Administration.

The purpose of this notice is to request comments on the First Draft Reports for the NFPA's 2014 Annual Revision Cycle. The publication of this notice by the National Institute of Standards and Technology (NIST) on behalf of NFPA is being undertaken as a public service; NIST does not necessarily endorse, approve, or recommend any of the standards referenced in the notice.

Background

The National Fire Protection Association (NFPA) develops building, fire, and electrical safety codes and standards. Federal agencies frequently use these codes and standards as the basis for developing Federal regulations concerning fire safety. Often, the Office of the Federal Register approves the incorporation by reference of these standards under 5 U.S.C. 552(a) and 1 CFR part 51.

Request for Comments

Interested persons may participate in these revisions by submitting written data, views, or arguments, to Amy Beasley Cronin, Secretary, Standards Council, NFPA, 1 Batterymarch Park, Quincy, Massachusetts 02169-7471. Commenters may go to the NFPA Web site at http://www.nfpa.org/FDRSDR. Each person submitting a comment should include his or her name and address, identify the notice, and give reasons for any recommendations. Comments received by 5:00 p.m. EST/EDST on or before May 3, 2013 for the 2014 Annual Revision Cycle First Draft Reports will be considered by the NFPA before final action is taken on the First Draft Reports.

Copies of all written comments received and the disposition of those comments by the NFPA committees will be published as the 2014 Annual Revision Cycle Second Draft Reports and will are available on the NFPA Web site at http://www.nfpa.org/FDRSDR .

2014 Annual Meeting—First Draft Reports
[P = Partial revision; W = Withdrawal; R = Reconfirmation; N = New]
NFPA 1 | Fire Code | P
NFPA 3 | Recommended Practice for Commissioning and Integrated Testing of Fire Protection and Life Safety Systems | P
NFPA 4 | Standard for Integrated Fire Protection and Life Safety System Testing | N
NFPA 30 | Flammable and Combustible Liquids Code | P
NFPA 30A | Code for Motor Fuel Dispensing Facilities and Repair Garages | P
NFPA 30B | Code for the Manufacture and Storage of Aerosol Products | P
NFPA 54 | National Fuel Gas Code | P
NFPA 59 | Utility LP-Gas Plant Code | P
NFPA 70E | Standard for Electrical Safety in the Workplace® | P
NFPA 79 | Electrical Standard for Industrial Machinery | P
NFPA 86 | Standard for Ovens and Furnaces | P
NFPA 87 | Recommended Practice for Fluid Heaters | P
NFPA 88A | Standard for Parking Structures | P
NFPA 90A | Standard for the Installation of Air-Conditioning and Ventilating Systems | P
NFPA 90B | Standard for the Installation of Warm Air Heating and Air-Conditioning Systems | P
NFPA 99 | Health Care Facilities Code | P
NFPA 99B | Standard for Hypobaric Facilities | P
NFPA 101 | Life Safety Code® | P
NFPA 220 | Standard on Types of Building Construction | P
NFPA 221 | Standard for High Challenge Fire Walls, Fire Walls, and Fire Barrier Walls | P
NFPA 302 | Fire Protection Standard for Pleasure and Commercial Motor Craft | P
NFPA 318 | Standard for the Protection of Semiconductor Fabrication Facilities | P
NFPA 484 | Standard for Combustible Metals | P
NFPA 703 | Standard for Fire Retardant—Treated Wood and Fire-Retardant Coatings for Building Materials | P
NFPA 720 | Standard for the Installation of Carbon Monoxide (CO) Detection and Warning Equipment | P
NFPA 790 | Standard for Competency of Third-Party Field Evaluation Bodies | P
NFPA 791 | Recommended Practice and Procedures for Unlabeled Electrical Equipment Evaluation | P
NFPA 1720 | Standard for the Organization and Deployment of Fire Suppression Operations, Emergency Medical Operations and Special Operations to the Public by Volunteer Fire Departments | P
NFPA 2113 | Standard on Selection, Care, Use, and Maintenance of Flame-Resistant Garments for Protection of Industrial Personnel Against Flash Fire | P
NFPA 5000 | Building Construction and Safety Code® | P

Dated: April 22, 2013.
Willie E. May,
Associate Director for Laboratory Programs.

[FR Doc. 2013-09936 Filed 4-25-13; 8:45 am]

BILLING CODE 3510-13-P